CONSUMER PRODUCT SAFETY COMMISSION

Sunshine Act Meeting Notice

TIME AND DATE: Wednesday, October 10, 2012, 10 a.m.-12 p.m.

PLACE: Hearing Room 420, Bethesda Towers, 4330 East West Highway, Bethesda, Maryland.

STATUS: Commission Meeting—Open to the Public

MATTERS TO BE CONSIDERED

Decisional Matters

1. Infant Swings

2. Consideration of Opportunities to Reduce Third Party Testing Costs Consistent With Assuring the Compliance of Children's Products

A live webcast of the Meeting can be viewed at www.cpsc.gov/webcast.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: October 3, 2012.
Todd A. Stevenson,
Secretary.

[FR Doc. 2012-24745 Filed 10-3-12; 11:15 am]

BILLING CODE 6355-01-P